DEPARTMENT OF THE INTERIOR

Bureau of Ocean Energy Management

[Docket No. BOEM-2018-0069]

Notice of Availability of a Draft Environmental Impact Statement for Vineyard Wind LLC's Proposed Wind Energy Facility Offshore Massachusetts

AGENCY: Bureau of Ocean Energy Management, Interior.

ACTION: Notice of availability of a Draft Environmental Impact Statement.

SUMMARY: Consistent with the regulations implementing the National Environmental Policy Act (NEPA), the Bureau of Ocean Energy Management (BOEM) is announcing the availability of a Draft Environmental Impact Statement (EIS) for the Construction and Operation Plan (COP) submitted by Vineyard Wind LLC (Vineyard Wind). The Draft EIS analyzes the potential environmental impacts of the proposed action described in the Vineyard Wind COP and reasonable alternatives to the proposed action. This Notice of Availability (NOA) announces the start of the public review and comment period, as well as the dates and locations of public hearings on the Draft EIS. After BOEM holds the public hearings and addresses comments on the Draft EIS, BOEM will prepare a Final EIS.

DATES: Comments should be submitted no later than January 22, 2019. BOEM's public hearings will be held at the following dates and times. Please see the ADDRESSES section for the specific locations.

New Bedford, Massachusetts: Tuesday, January 8, 2019

Narragansett, Rhode Island: Wednesday: January 9, 2019

Hyannis, Massachusetts: Tuesday, January 15, 2019

Nantucket, Massachusetts: Wednesday, January 16, 2019

Vineyard Haven, Massachusetts: Thursday, January 17, 2019

ADDRESSES: The Draft EIS and detailed information about the proposed wind energy facility, including the COP, can be found on BOEM's website at: https://www.boem.gov/Vineyard-Wind/. Comments can be submitted in any of the following ways:

• In written form, delivered by hand or by mail, enclosed in an envelope labeled “Vineyard Wind COP Draft EIS” and addressed to Program Manager, Office of Renewable Energy, Bureau of Ocean Energy Management, 45600 Woodland Road, Sterling, Virginia 20166. Comments must be received or postmarked no later than January 22, 2019; or

• Through the regulations.gov web portal: Navigate to htttp://www.regulations.gov and search for Docket No. BOEM-2018-0069. Click on the “Comment Now!” button to the right of the document link. Enter your information and comment, then click “Submit.”

BOEM will hold public hearings for the Draft EIS for the Vineyard Wind COP at the following places and times:

New Bedford, Massachusetts: Tuesday, January 8, 2019; New Bedford Whaling Museum, 18 Johnny Cake Hill, New Bedford, Massachusetts 02740; Open House 5:00-8:00 p.m.; Presentation and Q&A 6:00 p.m.

Narragansett, Rhode Island: Wednesday: January 9, 2019; Narragansett Town Hall, 25 5th Avenue, Narragansett, Rhode Island 02882; Open House 5:00-8:00 p.m.; Presentation and Q&A 6:00 p.m.

Hyannis, Massachusetts: Tuesday, January 15, 2019; Double Tree Hotel, Cape Cod Room, 287 Iyannough Road, Hyannis, Massachusetts 02601; Open House 5:00-8:00 p.m.; Presentation and Q&A 6:00 p.m.

Nantucket, Massachusetts: Wednesday, January 16, 2019; Nantucket Atheneum, 1 India Street, Nantucket, Massachusetts 02554; Open House 5:00 p.m.-7:30 p.m.; Presentation and Q&A 6:00 p.m.

Vineyard Haven, Massachusetts: Thursday, January 17, 2019; Martha's Vineyard Hebrew Center, 130 Center Street, Vineyard Haven, Massachusetts 02568; Open House 5:00-8:00 p.m.; Presentation and Q&A 6:00 p.m.

FOR FURTHER INFORMATION CONTACT: For information on the Vineyard Wind COP EIS, the submission of comments, or BOEM's policies associated with this notice, please contact Michelle Morin, BOEM Office of Renewable Energy Programs, 45600 Woodland Road, Sterling, Virginia 20166, (703) 787-1722 or michelle.morin@boem.gov

SUPPLEMENTARY INFORMATION: Proposed Action: The proposed action is approval of the construction and operation of a wind energy facility as described in the COP submitted by Vineyard Wind on Lease Area OCS-A 0501. The COP proposes to construct, operate, maintain, and eventually decommission an up to 800 MW wind energy facility on the OCS offshore Massachusetts within the proposed Project area. Vineyard Wind's COP proposes installing up to 100 wind turbine generators, each with a capacity of between 8 and 10 MW. Foundations would be 100 monopiles or up to 10 jacket foundations and the remainder monopiles. The proposed facility would also include one or two offshore substations or electrical service platforms. The Vineyard Wind COP also proposes an export cable from the wind energy facility to shore that would occur within the range of design parameters outlined in the COP. Vineyard Wind has identified two potential export cable landfalls: One near the town of Yarmouth and one near the town of Barnstable, both in the Commonwealth of Massachusetts. Onshore construction and staging would take place at the New Bedford Marine Commerce Terminal facility. At its nearest point, the project area is approximately 12 nautical miles from the southeast corner of Martha's Vineyard and a similar distance from the southwest side of Nantucket. The turbines would be located in water depths ranging from approximately 37 to 49 meters (approximately 121 to 161 feet).

Alternatives: In preparing the Draft EIS and in consideration of scoping comments, BOEM conducted an initial evaluation of a full range of alternatives. BOEM eliminated from further consideration alternatives that were technically or economically infeasible, did not provide environmental benefits, or otherwise did not meet BOEM's purpose and need. BOEM's Draft EIS carries forward for full evaluation a reasonable range of alternatives to the proposed action. The alternatives include the proposed action, a different cable landfall location, a reduction in project size, several options for modified wind turbine layouts, and a no-action alternative to disapprove the COP. This Draft EIS analyzes each alternative in detail, including direct, indirect, and cumulative environmental effects. The Draft EIS also considers proposed mitigation measures that BOEM may select. Compliance with existing laws and regulations by Vineyard Wind and BOEM may require additional measures or modifications to the measures described in the Draft EIS.

Once BOEM completes the Final EIS and associated consultations, BOEM will decide whether to approve, approve with modification, or disapprove the Vineyard Wind COP. If BOEM approves the COP and the proposed facility is constructed, the lessee must submit a plan to decommission the facilities before the lease term ends.

Availability of the Draft EIS: The Draft EIS, Vineyard Wind COP, and associated information are available on BOEM's website at: https://www.boem.gov/Vineyard-Wind/. BOEM will distribute digital copies of the Draft EIS to interested parties upon request. If you require a paper copy, BOEM will provide one upon request, as long as copies are available. You may request a CD, paper copy, or the location of a library with a paper copy of the Draft EIS by calling (703) 787-1346.

Cooperating Agencies: On March 30, 2018, BOEM published in the Federal Register a Notice of Intent to prepare the Draft EIS. Nine agencies are participating as cooperating agencies in the preparation of the Draft EIS: The Bureau of Safety and Environmental Enforcement, the U.S. Environmental Protection Agency, the National Oceanic and Atmospheric Administration, the U.S. Army Corps of Engineers, the U.S. Coast Guard, the Massachusetts Office of Coastal Zone Management, the Rhode Island Department of Environmental Management, the Rhode Island Coastal Resource Management Council, and the Narragansett Indian Tribe.

BOEM does not consider anonymous comments. Please include your name and address as part of your submittal. BOEM makes all comments, including the name and addresses of respondents, available for public review during regular business hours. Individual respondents may request that BOEM withhold their names or addresses from the public record; however, BOEM cannot guarantee that it will be able to do so. If you wish your name or address to be withheld, you must state your preference prominently at the beginning of your comment. All submissions from organizations or businesses and from individuals identifying themselves as representatives or officials of organizations or businesses will be made available for public inspection in their entirety.

Authority: This NOA was prepared pursuant to NEPA and implementing regulations at 40 CFR 1506.6 and 43 CFR 46.435.

Dated: December 3, 2018.
William Yancey Brown,
Chief Environmental Officer, Bureau of Ocean Energy Management.

[FR Doc. 2018-26573 Filed 12-6-18; 8:45 am]

BILLING CODE 4310-MR-P